DEPARTMENT OF TRANSPORTATION

Maritime Administration

[Docket No. DOT-MARAD 2014-0124]

Request for Comments of a Previously Approved Information Collection

AGENCY: Maritime Administration (MARAD), DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on June 25, 2014 (Federal Register Vol. 79, No. 122, page 36120). No comments were received.

DATES: Comments must be submitted on or before October 20, 2014.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Kimberly Brown, (202) 366-9363, Office of Security, Maritime Administration, U.S. Department of Transportation, 1200 New Jersey Avenue SE., Washington, DC 20590.

SUPPLEMENTARY INFORMATION: Title: Elements of Request for Course Approval.

OMB Control Number: 2133-0535.

Type of Request: Renewal of a Previously Approved Information Collection.

Abstract: Under this voluntary collection, public and private maritime security training course providers may choose to provide the Maritime Administration (MARAD) with information concerning the content and operation of their courses. MARAD will use this information to evaluate whether the course meets the training standards and curriculum promulgated under Section 109 of the Maritime Transportation Security Act of 2002 (MTSA) (Pub. L. 107-295). Courses found to meet these standards will receive a course approval.

Affected Public: Respondents are public and private maritime security course training providers.

Estimated Number of Respondents: 50.

Estimated Number of Responses: 75.

Annual Estimated Total Annual Burden Hours: 750.

Authority: The Paperwork Reduction Act of 1995; 44 U.S.C. Chapter 35, as amended; and 49 CFR 1.93.

Dated: September 8, 2014.
Julie P. Agarwal,
Maritime Secretary, Maritime Administration.

[FR Doc. 2014-22301 Filed 9-17-14; 8:45 am]

BILLING CODE 4910-81-P